DEPARTMENT OF ENERGY

Agency Information Collection Extension

AGENCY: Energy Efficiency and Renewable Energy, Department of Energy.

ACTION: Notice and Request for Comments.

SUMMARY: The Department of Energy (DOE), pursuant to the Paperwork Reduction (Act of 1995), intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 16, 2008. If you anticipate difficulty in submitting comments within that period, contact the person listed below as soon as possible.

ADDRESSES: Written comments may be sent to Elnora Long, U.S. Department of Energy, EE-2K/Forestal Building; 1000 Independence Ave., SW., Washington, DC 20585 or by fax 202-586-1233 or by e-mail at elnora.long@ee.doe.gov.

FOR FURTHER INFORMATION CONTACT: Requests for additional information or copies of the information collection instrument and instructions should be directed to Elnora Long at the address listed above.

SUPPLEMENTARY INFORMATION: This information collection request contains: (1) OMB No. 1910-5126 (2) Information Collection Request Title: State Energy Program; (3) Type of Review: Renewal; (4) Purpose: The State Energy Program purpose is to promote the conservation of energy; to reduce the rate of growth of energy demand and to reduce dependence on imported oil through the development and implementation of a comprehensive State Energy Program and the provision of Federal financial and technical assistance to States in support of such program. (5) Respondents: 56 States and Territories; (6) Estimated Number of Burden Hours: Burden is estimated at nine hours per state/territory totaling 504 hours.

Statutory Authority: This collection of information is in accordance with 10 CFR part 420.

Issued in Washington, DC on March 5, 2008.
Ronald Shaw,
Acting Program Manager, Office of Weatherization and Intergovernmental Program, Energy Efficiency and Renewable Energy.

[FR Doc. E8-5268 Filed 3-14-08; 8:45 am]

BILLING CODE 6450-01-P